DEPARTMENT OF DEFENSE

Department of the Army

Army Education Advisory Committee

AGENCY: U.S. Army War College.

ACTION: Notice of meeting.

SUMMARY: In accordance with Section 10(a)(2) of the Federal Advisory Committee Act (5 U.S.C. App. I), announcement is made of the following Committee meeting:

Name of Committee: U.S. Army War College Board of visitors, Committee of the Whole.

Dates of Meeting: August 3 and 4, 2000.

Place: Root Hall, U.S. Army War College, Carlisle Barracks, Pennsylvania.

Time: 8:30 a.m.-5 p.m.

Proposed Agenda: Receive information briefings; conduct discussions with the Commandant, staff and faculty; review USAWC Master's Degree Campaign Plan; plan future membership and composition of the Board of Visitors; and provide guidance regarding accreditation and areas for improvement.

FOR FURTHER INFORMATION CONTACT: To request advance approval or obtain further information, contact Dr. John R. Goss, III, Box 375, U.S. Army War College, Carlisle Barracks, PA 17013 or telephone (717) 245-3365.

SUPPLEMENTARY INFORMATION: This meeting is open to the public. Any interested person may attend, appear before, or file statements with the Committee after receiving advance approval for participation. To request additional information please contact Dr. John R. Goss III at the above address or phone number.

Gregory D. Showalter,
Army Federal Register Liaison Officer.

[FR Doc. 00-19127 Filed 7-27-00; 8:45 am]

BILLING CODE 3710-08-P